DEPARTMENT OF HEALTH AND HUMAN SERVICES

Centers for Medicare & Medicaid Services

[Document Identifiers: CMS-10341, CMS-10875, CMS-40B, CMS-10797 and CMS-4040]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by December 30, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10341 Section 1115 Demonstration Projects Regulations

CMS-10875 Reporting Requirements and Corrective Action Plans Under Section 1902(tt) of the Social Security Act

CMS-40B Application for Enrollment in Medicare Part B (Medical Insurance)

CMS-10797 Application for Medicare Part A and Part B Special Enrollment Period

(Exceptional Circumstances)

CMS-4040 Request for Enrollment in Supplementary Medical Insurance (SMI)

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Extension of a currently approved collection; Title of Information Collection: Section 1115 Demonstration Projects Regulations at 42 CFR 431.408, 431.412, 431.420, 431.424, and 431.428; Use: This collection is necessary to ensure that states comply with regulatory and statutory requirements related to the development, implementation and evaluation of demonstration projects. States seeking waiver authority under section 1115 are required to meet certain requirements for public notice, the evaluation of demonstration projects, and reports to the Secretary on the implementation of approved demonstrations. Form Number: CMS-10341 (OMB control number: 0938-1162); Frequency: Yearly and quarterly; Affected Public: State, Local, or Tribal Governments; Number of Respondents: 48; Total Annual Responses: 403; Total Annual Hours: 41,847. (For policy questions regarding this collection contact Raven Smith at 410-786-3731.)

2. Type of Information Collection Request: Extension of a currently approved collection; Title of Information Collection: Reporting Requirements and Corrective Action Plans Under section 1902(tt) of the Social Security Act; Use: The data and information in the CAP that states are required to report is used by CMS to document that states' redetermination activities are in compliance with Federal redetermination requirements, to identify concerns with eligibility renewals within a state's Medicaid program, and to inform any necessary programmatic changes to address unauthorized loss of coverage. CMS uses the information to conduct oversight of state activities and to make informed decisions whether to take enforcement action in the form of requiring the suspension of procedural terminations and/or imposing CMPs. Form Number: CMS-10875 (OMB control number: 0938-1462); Frequency: Once and on occasion; Affected Public: State, Local, or Tribal Governments; Number of Respondents: 8; Total Annual Responses: 16; Total Annual Hours: 408. (For policy questions regarding this collection contact Abby Kahn at 410-786-4321.)

3. Type of Information Collection Request: Revision of a currently approved collection; Title of Information Collection: Application for Enrollment in Medicare Part B (Medical Insurance); Use: Medicare Part B is a voluntary program, financed from premium payments by enrollees, together with contributions from funds appropriated by the Federal government. The Social Security Act (the Act) at section 226(a) provides that individuals who are age 65 or older and eligible for, or entitled to, Social Security or Railroad Retirement Board (RRB) benefits shall be entitled to premium-free Part A upon filing an application for such benefits. Section 1836 of the Act permits individuals with Medicare premium-free Part A to enroll in Part B. The CMS-40B provides the necessary information to determine eligibility and to process the beneficiary's request for enrollment for Medicare Part B coverage. This form is only used for enrollment by beneficiaries who already have Part A, but not Part B.

Form CMS-40B is completed by the person with Medicare or occasionally by an SSA representative using information provided by the Medicare enrollee during an in-person interview. The form is owned by CMS, but not completed by CMS staff. SSA processes Medicare enrollments on behalf of CMS. Form Number: CMS-40B (OMB control number: 0938-1230); Frequency: Once; Affected Public: Individuals and Households; Number of Respondents: 1,184,546; Total Annual Responses: 1,184,546; Total Annual Hours: 292,820. (For policy questions regarding this collection contact Carla Patterson at 410-786-8911 or Carla.Patterson@cms.hhs.gov.)

4. Type of Information Collection Request: Revision of a currently approved collection; Title of Information Collection: Application for Medicare Part A and Part B Special Enrollment Period (Exceptional Circumstances); Use: Section 1837(m) of the Social Security Act (the Act) provides authority for the Secretary of the Department of Health and Human Services to establish SEPs for individuals who are eligible to enroll in Medicare and meet such exceptional conditions as the Secretary may provide.

CMS provides SEPs for individuals experiencing an exceptional circumstance to enroll in Medicare premium Part A and Part B. To utilize these SEPs, an individual would have to submit an enrollment request via the form CMS-10797. The form is used by individuals who have missed an enrollment period due to an exceptional circumstance to enroll in Part A and/or Part B. Individuals complete the form and submit it to SSA to complete the enrollment.

The application form provides the necessary information to determine eligibility and to process the beneficiary's request for enrollment in premium Part A or Part B due to an exceptional circumstance. The form is only used for enrollment by beneficiaries who could not enroll during another enrollment period due to an exceptional circumstance. Form Number: CMS-10797 (OMB control number: 0938-1426); Frequency: Once; Affected Public: Individuals and Households, Business or other for-profits, Not-for-profits institutions; Number of Respondents: 34,612; Total Annual Responses: 34,612; Total Annual Hours: 19,901. (For policy questions regarding this collection contact Carla Patterson at 410-786-8911 or Carla.Patterson@cms.hhs.gov.)

5. Type of Information Collection Request: Revision of a currently approved collection; Title of Information Collection: Request for Enrollment in Supplementary Medical Insurance (SMI); Use: Section 1836 of the Social Security Act, and CMS regulations at 42 CFR 407.10, provide the eligibility requirements for enrollment in Part B for individuals aged 65 and older who are not entitled to premium-free Part A. The individual must be a resident of the United States, and either a U.S. Citizen or an alien lawfully admitted for permanent residence that has lived in the US continually for 5 years.

Part B is a voluntary program and is financed from premium payments by enrollees together with contributions from funds appropriated by the Federal government. All individuals age 65 or older who are entitled to Part A can enroll in Part B. There are some individuals, age 65 and over who are not entitled to or eligible for premium-free Part A. These individuals may, however, enroll in Part B only.

The CMS-4040 solicits the information that is used to determine entitlement for individuals who meet the requirements in section 1836 as well as the entitlement of the applicant or their spouses to an annuity paid by OPM for premium deduction purposes. The application follows the application questions and requirements used by SSA. This is done not only for consistency purposes but to comply with other title II and title XVIII requirements because eligibility to title II benefits and free Part A under title XVIII must be ruled out in order to qualify for enrollment in Part B only. Form Number: CMS-4040 (OMB control number: 0938-0245); Frequency: Once; Affected Public: Individuals and Households, Business or other for-profits, Not-for-profits institutions; Number of Respondents: 48,642; Total Annual Responses: 48,642; Total Annual Hours: 12,161. (For policy questions regarding this collection contact Carla Patterson at 410-786-8911 or Carla.Patterson@cms.hhs.gov.)

William N. Parham, III,
Director, Division of Information Collections and Regulatory Impacts, Office of Strategic Operations and Regulatory Affairs.

[FR Doc. 2024-25148 Filed 10-29-24; 8:45 am]

BILLING CODE 4120-01-P